FEDERAL COMMUNICATIONS COMMISSION

Notice of Public Information Collection(s) Being Submitted for Review to the Office of Management and Budget, Comments Requested

July 22, 2008.

SUMMARY: As part of its continuing effort to reduce paperwork burden and as required by the Paperwork Reduction Act (PRA) of 1995 (44 U.S.C. 3501-3520), the Federal Communications Commission invites the general public and other Federal agencies to comment on the following information collection(s). Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology. An agency may not conduct or sponsor a collection of information unless it displays a currently valid OMB control number. No person shall be subject to any penalty for failing to comply with a collection of information subject to the Paperwork Reduction Act that does not display a valid OMB control number.

DATES: Written PRA comments should be submitted on or before August 28, 2008. If you anticipate that you will be submitting PRA comments, but find it difficult to do so within the period of time allowed by this notice, you should advise the FCC contact listed below as soon as possible.

ADDRESSES: Submit your comments to Nicholas A. Fraser, Office of Management and Budget (e-mail address: nfraser@omb.eop.gov), and to the Federal Communications Commission's PRA mailbox (e-mail address: PRA@fcc.gov). Include in the emails the OMB control number of the collection as shown in the SUPPLEMENTARY INFORMATION section below or, if there is no OMB control number, the Title as shown in the SUPPLEMENTARY INFORMATION section. If you are unable to submit your comments by e-mail contact the person listed below to make alternate arrangements.

FOR FURTHER INFORMATION CONTACT: For additional information contact Leslie F. Smith via e-mail at PRA@fcc.gov or at (202) 418-0217. To view or obtain a copy of an information collection request (ICR) submitted to OMB: (1) Go to this OMB/GSA Web page: http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the OMB control number of the ICR you want to view (or its title if there is no OMB control number) and then click on the ICR Reference Number. A copy of the FCC submission to OMB will be displayed.

SUPPLEMENTARY INFORMATION:

OMB Control Number: 3060-0395.

Title: The ARMIS USOA Report (ARMIS Report 43-02); the ARMIS Service Quality Report (ARMIS Report 43-05); and the ARMIS Infrastructure Report (ARMIS Report 43-07). Report Numbers.

Form Number: FCC Reports 43-02, 43-05 and 43-07.

Type of Review: Revision of a currently approved collection.

Respondents: Business or other for-profit.

Number of Respondents and Responses: 47 respondents; 61 responses.

Estimated Time per Response: 319.14 hours.

Obligation to Respond: Mandatory—The ARMIS reporting requirements were established by the Commission in 1987 to facilitate the timely and efficient analysis of carrier operating costs and rates of return, to provide an improved basis for audits and other oversight functions, and to enhance the Commission's ability to quantify the effects of alternative policy proposals. Additional ARMIS Reports were added in 1991 and 1992. Incumbent LECs must submit the ARMIS reports to the Commission annually on or before April 1. See Reporting Requirements of Certain Class A and Tier I Telephone Companies (Parts 31, 43, 67 and 69 of the FCC's Rules), Order, 2 FCC Rcd 5770 (1987), modified on recon, 3 FCC Rcd 6375 (1988) (ARMIS Order). Also, see 47 CFR Part 43, Section 43.21.

Frequency of Response: Annual reporting requirements.

Total Annual Burden: 19,468 hours.

Total Annual Cost: $0.00.

Privacy Act Impact Assessment: No impacts.

Nature of Extent of Confidentiality: This collection addresses information of a confidential nature for two of these reports. Respondents have requested and filed for confidential treatment of information they believe should be withheld from public inspection under 47 CFR Section 0.459 of the Commission's rules.

Needs and Uses: FCC Report 43-02 contains company-wide data for each account specified in the Uniform System of Accounts (USOA). It provides the annual operating results of the carriers' activities for every account in the USOA. In this report, we are adjusting the number of carriers filing the 43-02 ARMIS report from 28 respondents to 26 to reflect the sale of two respondents. We are also increasing the burden hours to reflect the Commission's requirement in its Report and Order and Memorandum Opinion and Order (MOO) released August 31, 2007. The Commission required AT&T, Qwest, and Verizon to include the imputation charges it debits to account 5280 accompanied by an explanatory footnote for each line item identifying the amount imputed in three ARMIS report filings. The MOO required this information in FCC Reports 43-01, ARMIS Annual Summary Report; 43-02, ARMIS USOA Report; and, 43-03, ARMIS Joint Cost Report.

ARMIS Report 43-05 collects data at the study level and holding company level and is designed to capture trends in service quality under price cap regulation. It provides service quality information in the areas of interexchange access service installation and repair intervals, local service installation and repair intervals, trunk blockage, and total switch downtime for price cap companies. We are adjusting the number of respondents submitting the 43-05 from 15 to 14 to reflect the merger of two respondents and the spin-off of their landline business.

ARMIS Report 43-07 is designed to capture trends in telephone industry infrastructure development under price cap regulation. It provides switch deployment and capabilities data. The information is also part of the data necessary to support the Commission's audit and other oversight functions. The data provide the necessary detail to enable the Commission to fulfill its regulatory responsibility. There are no changes to the ARMIS Report 43-07.

OMB Control Number: 3060-0410.

Title: Forecast of Investment Usage Report, FCC Report 495A; and Actual Usage of Investment Report. Report Number, FCC Reports 495B.

Form Numbers: FCC Reports 495-A and 495-B.

Type of Review: Revision of a currently approved collection.

Respondents: Business or other for-profit.

Number of Respondents and Responses: 70 respondents; 140 responses.

Estimated Time per Response: 40 hours.

Obligation to Respond: Mandatory—The ARMIS reporting requirements were established by the Commission in 1987 to facilitate the timely and efficient analysis of carrier operating costs and rates of return, to provide an improved basis for audits and other oversight functions, and to enhance the Commission's ability to quantify the effects of alternative policy proposals. Additional ARMIS Reports were added in 1991 and 1992. Incumbent LECs must submit the ARMIS reports to the Commission annually on or before April 1. See Reporting Requirements of Certain Class A and Tier I Telephone Companies (Parts 31, 43, 67 and 69 of the FCC's Rules), Order, 2 FCC Rcd 5770 (1987), modified on recon, 3 FCC Rcd 6375 (1988) (ARMIS Order). Also, see 47 CFR Part 43, Section 43.21.

Frequency of Response: Annual reporting requirement.

Total Annual Burden: 5,600 hours.

Total Annual Cost: $0.00.

Privacy Act Impact Assessment: No impacts.

Nature of Extent of Confidentiality: This collection addresses information of a confidential nature. Respondents have requested and filed for confidential treatment of information they believe should be withheld from public inspection under 47 CFR Section 0.459 of the Commission's rules.

Needs and Uses: The 495A Report provides the forecast and resulting investment allocation incorporated in a carrier's cost support for its access tariff. The 495B Report enables the Commission's staff to monitor actual and forecasted investment use. These reports help ensure that the regulated operations of the carriers do not subsidize the nonregulated operations of those same carriers. This information is also a part of the data necessary to support the Commission's audit and other oversight functions. The data provide the necessary detail to enable the Commission to fulfill it regulatory responsibility. There are no changes to the ARMIS Reports 495A and 495B.

On April 24, 2008, the Commission granted AT&T's and BellSouth's petitions for forbearance from, among other things, certain ARMIS reporting requirements, conditioned upon Commission approval of an AT&T compliance plan describing how it will continue to fulfill its statutory and regulatory obligations and the conditions of the order. See Petition of AT&T Inc. for Forbearance Under 47 U.S.C. 160 From Enforcement of Certain of the Commission's Cost Assignment Rules; Petition of AT&T Inc. for Forbearance Under 47 U.S.C. 160 From Enforcement of Certain of the Commission's Cost Assignment Rules, FCC 08-120 (rel. April 24, 2008). As a result, upon approval of the compliance plan, AT&T and BellSouth no longer will be required to file ARMIS Report 43-04, and FCC Forms 492, 495A and 495B. Id. at para.. 12 n.36. Subsequently, on May 23, 2008, Verizon and Qwest requested that the Commission grant the same forbearance to them. The Commission has sought comment on that request, with comments filed June 26, 2008, and replies filed July 7, 2008. See Comment Dates Set On Request of Verizon and Qwest to Extend Forbearance Relief from Cost Assignment Rules, DA 08-1361 (rel. June 6, 2008).

Federal Communications Commission.
Marlene H. Dortch,
Secretary.

[FR Doc. E8-17346 Filed 7-28-08; 8:45 am]

BILLING CODE 6712-01-P